DEPARTMENT OF AGRICULTURE

Rural Utilities Service

Brazos Electric Power Cooperative, Inc.; Notice of Intent To Hold Public Workshops and Prepare an Environmental Assessment

AGENCY: Rural Utilities Service, USDA.

ACTION: Notice of intent To hold public workshops and prepare an environmental assessment.

SUMMARY: The Rural Utilities Service (RUS) intends to hold public scoping workshops and prepare an environmental assessment (EA) in connection with possible impacts related to the construction and operation of a new gas-fired combustion turbine generation facility. The project is proposed by Brazos Electric Power Cooperative, Inc. (Brazos), of Waco, Texas. RUS may provide financing assistance for the project. RUS will hold two public scoping workshops for a proposed Gas-fired Electrical Generation Plant. The first workshop is scheduled for Tuesday, February 11, 2003, from 3 p.m. until 7 p.m. at the Decatur Civic Center. The Decatur Civic Center is located at 2010 W. U.S. 380, in Decatur, Texas. The second workshop will be held on Wednesday, February 12, 2003, from 3 p.m. until 7 p.m. at the Twin Lakes Community Center. The Twin Lakes Community Center is located at 420 Highway 59, Jacksboro, Texas.

FOR FUTHER INFORMATION CONTACT: Dennis E. Rankin, Environmental Protection Specialist, RUS, Engineering and Environmental Staff, Stop 1571, 1400 Independence Avenue, SW., Washington, DC 20250-1571, telephone: (202) 720-1953 or e-mail: drankin@rus.usda.gov.; or Mike McClendon, Brazos at (254) 750-6326 or e-mail: mmlendon@brazoselectric.com.

SUPPLEMENTARY INFORMATION: Brazos is proposing to construct a new gas-fired combustion turbine and is evaluating potential sites located in Wise and Jack Counties, Texas. One potential site is located in the southwest corner of Wise County. It is approximately 11 miles northwest of Springtown, west of the intersection of State Highway 199 and FM 920. A second potential site is located north of the City of Bridgeport on or adjacent to the former U.S. Stone Mining company operation northwest of the intersection of State Highway 101 and FM 1658. The third potential site is located northeast of State Highway 199 and FM 1156 in Jack County and southeast of the intersection of Shepard Road/Henderson Ranch Rd. and FM 1156. Associated facilities include a gas pipeline, water pipeline and transmission facilities generation plant.

Comments regarding the proposed project may be submitted in writing at the public workshop or in writing no later than March 14, 2003, to RUS at the address provided above.

An environmental assessment (EA) will be prepared for the proposed project. Based on a review of the Environmental Assessment and other relevant information, RUS will determine if the preparation of an environmental impact statement is necessary. Should RUS determine that the preparation of an environmental impact statement is not necessary, it will prepare a Finding of No Significant Impact.

Any final action by RUS related to the proposed project will be subject to, and contingent upon, compliance with all relevant Federal, State, and local environmental laws and regulations and completion of the environmental review procedures as prescribed by RUS’ Environmental Policies and Procedures.

Dated: January 28, 2003.
Lawrence R. Wolfe,
Acting Director, Engineering and Environmental Staff, Rural Utilities Service.

[FR Doc. 03-2314 Filed 1-30-03; 8:45 am]

BILLING CODE 3410-15-P